DEPARTMENT OF JUSTICE

Office of Community Oriented Policing Services FY 2004 Community Policing Discretionary Grants

AGENCY: Office of Community Oriented Policing Services, Department of Justice.

ACTION: Notice of funding availability.

SUMMARY: The Department of Justice Office of Community Oriented Policing Services (COPS) announces the availability of funds under the Tribal Resources Grant Program, a program designed to meet the most serious needs of law enforcement in Indian communities through a comprehensive grant program that will offer a variety of funding options including: Basic and/or specialized training for sworn law enforcement officers; training in community policing, grant management and computer training; uniforms and basic issue equipment; department-wide technology; and police vehicles. This program, which complements the COPS Office's efforts to fund and support innovative community policing, will enhance law enforcement infrastructures and community policing efforts in tribal communities which have limited resources and are affected by high rates of crime and violence. Applications should reflect the department's most serious law enforcement needs and must link these needs to the implementation or enhancement of community policing.

All Federally Recognized Tribes with established police departments are eligible to apply. Federally Recognized Tribes may also apply as a consortium with a written partnership agreement that names a lead agency and describes how requested resources will serve the consortium's population. In addition, tribes that are currently served by Bureau of Indian Affairs (BIA) law enforcement may request funding under this grant program to supplement their existing police services. Tribes whose law enforcement services are exclusively provided by local policing agencies through a contract agreement are not eligible under the COPS TRGP program, but may be eligible to apply to the COPS in Schools program for police officer positions only.

DATES: Applications will be available in early April. Federally Recognized Tribes or villages that wish to apply may request an application from the COPS Office. The deadline for the submission of applications is May 28, 2004. Applications must be post marked by May 28, 2004, to be considered eligible.

ADDRESSES: To obtain an application or for more information, call the U.S. Department of Justice Response Center at 1-800-421-6770. A copy of the application kit will also be available in April on the COPS Office Web site at: http://www.cops.usdoj.gov.

FOR FURTHER INFORMATION CONTACT: The U.S. Department of Justice Response Center, 1-800-421-6770 and ask to speak with your Tribal Grant Program Specialist.

SUPPLEMENTARY INFORMATION:

Overview

The Violent Crime Control and Law Enforcement Act of 1994 (Pub. L. 103-322) authorizes the Department of Justice to make grants to increase deployment of law enforcement officers devoted to community policing on the streets and rural routes in this nation. The Tribal Resources Grant Program was developed to meet the most serious needs of law enforcement in tribal communities through a comprehensive grant program that will offer a variety of funding options.

This program will enhance law enforcement infrastructures and community policing efforts in these tribal communities, many of which have limited resources and are affected by high rates of crime and violence.

The Tribal Resources Grant Program is part of a larger federal initiative which over the last six years has resulted in the Departments of Interior and Justice working in collaboration to improve law enforcement in tribal communities. Funding has been appropriated to several DOJ agencies including the FBI, the Bureau of Justice Assistance (BJA), the Office of Juvenile Justice and Delinquency Prevention (OJJDP) and the COPS Office. COPS is coordinating with these agencies as well as with the Office of Law Enforcement Services of the Bureau of Indian Affairs to ensure that limited resources are not spent on duplicative efforts.

A total of $25 million in funding will be available under the Tribal Resources Grant Program. The grant will cover a maximum federal share of 75% of total project costs. A local match requirement of at least 25% of the total project costs is included in this program. A waiver of the local match requirement may be requested but will be granted only on the basis of documented demonstrated fiscal hardship. Requests for waivers must be submitted with the application.

Tribes whose law enforcement services are exclusively provided by local policing agencies through contract arrangements are not eligible under this COPS program. However, tribes that do not meet the eligibility requirements for this program may be eligible to apply to the COPS in Schools program for police officer positions only.

Receiving an award under the Tribal Resources Grant Program will not preclude grantees from future consideration under other COPS grant program for which they are eligible.

The Catalog of Federal Domestic Assistance (CFDA) reference for this program is 16.710.

Dated: March 19, 2004.
Carl R. Peed,
Director, Office of Community Oriented Policing Services.

[FR Doc. 04-7424 Filed 4-1-04; 8:45 am]

BILLING CODE 4410-AT-M